ENVIRONMENTAL PROTECTION AGENCY

[EPA-HQ-OAR-2012-0333; FRL 9524-5]

Information Collection Request Submitted to OMB for Review and Approval; Comment Request; Greenhouse Gas Reporting Program (Renewal)

AGENCY: Environmental Protection Agency (EPA).

ACTION: Notice.

SUMMARY: The Environmental Protection Agency has submitted an information collection request (ICR), Greenhouse Gas Reporting Program (Renewal) (EPA ICR No. 2300.10, OMB Control No. 2060-0629) to the Office of Management and Budget (OMB) for review and approval in accordance with the Paperwork Reduction Act (44 U.S.C. 3501 et seq.). This is a proposed extension of the ICR, which is currently approved through November 30, 2012. Public comments were previously requested via the Federal Register (77 FR 28376) on May 14, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 27, 2012.

ADDRESSES: Submit your comments, referencing Docket ID Number EPA-HQ-OAR-2012-0333, to (1) EPA online using www.regulations.gov (our preferred method), by email to a-and-r-Docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Carole Cook, Climate Change Division, Office of Atmospheric Programs, Mail Code 6207J, Environmental Protection Agency, 1200 Pennsylvania Ave. NW., Washington, DC 20460; telephone number: (202) 343-9263; fax number: (202) 343-2342; email address: GHGReportingRule@epa.gov.

SUPPLEMENTARY INFORMATION: Supporting documents, which explain in detail the information that the EPA will be collecting, are available in the public docket for this ICR. The docket can be viewed online at www.regulations.gov or in person at the EPA Docket Center, EPA West, Room 3334, 1301 Constitution Ave., NW., Washington, DC. The telephone number for the Docket Center is 202-566-1744. For additional information about EPA's public docket, visit http://www.epa.gov/dockets.

Abstract: The purpose for this ICR is to renew and revise the Mandatory Reporting of Greenhouse Gases Rule (GHG Reporting Rule) ICR to update and consolidate the burdens and costs imposed by all of the current ICRs under the GHG Reporting Rule. In response to the FY2008 Consolidated Appropriations Act (H.R. 2764; Pub. L. 110-161) and under authority of the Clean Air Act, the EPA finalized the GHG Reporting Rule (74 FR 56260; October 30, 2009). The GHG Reporting Rule, which became effective on December 29, 2009, establishes reporting requirements for some direct GHG emitters as well as suppliers of certain products that will emit GHG when released, combusted, or oxidized, industrial gas suppliers, and manufacturers of heavy-duty and off-road vehicles and engines. It does not require control of greenhouse gases. Instead, it requires that sources emitting above certain threshold levels of carbon dioxide equivalent (CO2e) monitor and report emissions.

Subsequent rules provide corrections and clarification on existing requirements; include requirements for additional facilities and suppliers; require reporters to provide information about parent companies, NAICS code(s), and whether emissions are from cogeneration; and finalize confidentiality determinations. Collectively, the GHG Reporting Rule and its associated rulemakings are referred to as the Greenhouse Gas Reporting Program (GHGRP).

Data submitted under the GHGRP that is classified as CBI is protected under the provisions of 40 CFR part 2, subpart B. The EPA is determining through a series of rulemaking actions the data elements that will be eligible for treatment as CBI. However, according to CAA section 114(c), “emissions data” cannot be classified as CBI. The EPA has proposed that inputs to emissions equations meet the definition of “emissions data” and cannot be afforded the protections of CBI. The EPA has deferred the reporting deadline for data elements that are used as inputs to emissions equations to provide the EPA time needed to fully evaluate and resolve issues regarding the reporting and potential release of these data (76 FR 53057, August 25, 2011).

Form Numbers: EPA Form 5900-211, EPA Form 5900-233.

Respondents/affected entities: Entities potentially affected by this action are suppliers of certain products that will emit GHG when released, combusted, or oxidized, motor vehicle and engine manufacturers, including aircraft engine manufacturers; facilities in certain industrial categories that emit greenhouse gases; and facilities that emit 25,000 metric tons or more of carbon dioxide equivalent (CO2e) per year.

Respondent's obligation to respond: Mandatory. Authority contained in Sections 114 and 208 of the CAA.

Estimated number of respondents: 11,039.

Frequency of response: Annual.

Total estimated burden: 981,032 hours (per year). Burden is defined at 5 CFR 1320.03(b).

Total estimated cost: $90,847,769 (per year), includes $28,192,763 annualized capital or operation & maintenance costs.

Changes in the Estimates: This renewal consolidates all of the existing Greenhouse Gas Reporting Program ICRs. The increase in burden resulting from consolidating these ICRs will be negated when those ICRs are discontinued following the consolidation. In comparison to the net total estimated respondent burden currently approved by OMB for all of the existing Greenhouse Gas Reporting Program ICRs, there is a decrease of 735,690 hours. This decrease is the result of an adjustment for one-time activities that occurred during the first year of data collection and an adjustment based on the actual number of reporters.

John Moses,
Director, Collection Strategies Division.

[FR Doc. 2012-28653 Filed 11-26-12; 8:45 am]

BILLING CODE 6560-50-P